DEPARTMENT OF HOMELAND SECURITY

Federal Emergency Management Agency

44 CFR Part 67

[Docket ID FEMA-2010-0003; Internal Agency Docket No. FEMA-B-1100]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 23, 2010.

ADDRESSES: The corresponding preliminary Flood Insurance Rate Map (FIRM) for the proposed BFEs for each community is available for inspection at the community's map repository. The respective addresses are listed in the table below.

You may submit comments, identified by Docket No. FEMA-B-1100, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Clinton County, Iowa, and Incorporated Areas
Mississippi River | Approximately 11.2 miles downstream of U.S. Route 30 | None | +585 | City of Camanche, City of Clinton, Unincorporated Areas of Clinton County.
| Approximately 12.8 miles upstream of State Highway 136 | None | +594
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Camanche
Maps are available for inspection at 917 3rd Street, Camanche, IA 52730.
City of Clinton
Maps are available for inspection at 110 5th Avenue South, Clinton, IA 52732.
Unincorporated Areas of Clinton County
Maps are available for inspection at 329 East 11th Street, DeWitt, IA 52742.
Wapello County, Iowa, and Incorporated Areas
Des Moines River | Approximately 2.8 miles downstream of U.S. Route 34 | None | +635 | Unincorporated Areas of Wapello County.
| Approximately 0.9 mile upstream of Blackhawk Road. | None | +643
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Wapello County
Maps are available for inspection at 536 Mill Street, Ottumwa, IA 52501.
Henry County, Kentucky, and Incorporated Areas
Aaron Branch (Backwater effects from Kentucky River) | From the confluence with Pot Ripple Creek to approximately 0.5 mile upstream of the confluence with Pot Ripple Creek | None | +488 | Unincorporated Areas of Henry County.
Boiling Branch (Backwater effects from Kentucky River) | From the confluence with Sulphur Creek to approximately 0.5 mile upstream of the confluence with Sulphur Creek | None | +481 | Unincorporated Areas of Henry County.
Cane Run (Backwater effects from Kentucky River) | From the confluence with the Kentucky River to approximately 0.5 mile upstream of Ford Lane | None | +476 | Unincorporated Areas of Henry County.
Drennon Creek (Backwater effects from Kentucky River) | From the confluence with the Kentucky River to approximately 0.8 mile upstream of the confluence with Drennon Creek Tributary 9 | None | +480 | Unincorporated Areas of Henry County.
Drennon Creek Tributary 49 (Backwater effects from Kentucky River) | From the confluence with Drennon Creek to approximately 680 feet upstream of the confluence with Drennon Creek | None | +480 | Unincorporated Areas of Henry County.
Emily Run (Backwater effects from Kentucky River) | From the confluence with Drennon Creek to approximately 708 feet upstream of Drennon Road | None | +480 | Unincorporated Areas of Henry County.
Greens Fork (Backwater effects from Kentucky River) | From the confluence with Sulphur Creek to approximately 1,360 feet upstream of the confluence with Sulphur Creek | None | +481 | Unincorporated Areas of Henry County.
Gullion Creek Tributary 1 (Backwater effects from Kentucky River) | From the confluence with Gullion Run to approximately 470 feet upstream of Gullion Branch Road | None | +474 | Unincorporated Areas of Henry County.
Gullion Run (Backwater effects from Kentucky River) | From the confluence with the Kentucky River to approximately 885 feet upstream of the confluence with Gullion Creek Tributary 1 | None | +474 | Unincorporated Areas of Henry County.
Hances Branch (Backwater effects from Kentucky River) | From the confluence with Sixmile Creek to approximately 1,335 feet upstream of Six Mile Creek Road | None | +487 | Unincorporated Areas of Henry County.
Joes Branch (Backwater effects from Kentucky River) | From the confluence with Sixmile Creek to approximately 785 feet upstream of Six Mile Creek Road | None | +487 | Unincorporated Areas of Henry County.
Kentucky River | Approximately 0.9 mile downstream of the confluence with Gullion Run | None | +473 | Unincorporated Areas of Henry County.
| Approximately 5.0 miles upstream of the confluence with Stevens Creek West | None | +498
Longs Branch (Backwater effects from Kentucky River) | From the confluence with Sixmile Creek to approximately 1,280 feet upstream of the confluence with Sixmile Creek | None | +487 | Unincorporated Areas of Henry County.
Martini Run (Backwater effects from Kentucky River) | From the confluence with Drennon Creek to approximately 1,490 feet upstream of Drennon Road | None | +480 | Unincorporated Areas of Henry County.
Pot Ripple Creek (Backwater effects from Kentucky River) | From the confluence with the Kentucky River to approximately 0.8 mile upstream of the confluence with Aaron Branch | None | +488 | Unincorporated Areas of Henry County.
Sixmile Creek (Backwater effects from Kentucky River) | From the confluence with the Kentucky River to approximately 1,410 feet upstream of the confluence with Longs Branch | None | +487 | Unincorporated Areas of Henry County.
Stevens Creek West (Backwater effects from Kentucky River) | From the confluence with the Kentucky River to approximately 1.1 mile upstream of the confluence with the Kentucky River | None | +494 | Unincorporated Areas of Henry County.
Sulphur Creek (Backwater effects from Kentucky River) | From the confluence with Drennon Creek to approximately 1,200 feet upstream of the confluence with Greens Fork | None | +481 | Unincorporated Areas of Henry County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Henry County
Maps are available for inspection at the Henry County Courthouse, 19 South Property Road, New Castle, KY 40050.
Washtenaw County, Michigan (All Jurisdictions)
Huron River | Just upstream of Whitmore Lake Road | None | +775 | Village of Barton Hills.
| Approximately 1,700 feet downstream of Foster Road | None | +798
North Lake | Entire shoreline in the Township of Lyndon | None | +939 | Township of Lyndon.
River Raisin | Approximately 0.5 mile upstream of State Highway 52 | None | +880 | Township of Manchester.
| Approximately 0.6 mile upstream of State Highway 52 | None | +880
Saline River | Approximately 0.5 mile downstream of Macon Road | None | +736 | Township of Saline.
| Approximately 1,500 feet upstream of Macon Road | None | +775
Wood Outlet Drain | Approximately 0.6 mile upstream of U.S. Route 12 | None | +759 | Township of Lodi.
| Just upstream of the Saline Waterworks | None | +792
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Township of Lodi
Maps are available for inspection at 3755 Pleasant Lake Road, Ann Arbor, MI 48103.
Township of Lyndon
Maps are available for inspection at 17751 North Territorial Road, Chelsea, MI 48188.
Township of Manchester
Maps are available for inspection at 275 South Macomb Street, Manchester, MI 48158.
Township of Saline
Maps are available for inspection at 5371 Braun Road, Saline, MI 48176.
Village of Barton Hills
Maps are available for inspection at 199 Barton Shore Drive, Ann Arbor, MI 48107.
Sussex County, New Jersey (All Jurisdictions)
Culvers Creek | At the confluence with Dry Brook | None | +528 | Township of Frankford.
| At the upstream corporate limit of the Township of Frankford | None | +645
Delaware River | At the Warren County boundary | None | +352 | Township of Montague, Township of Sandyston.
| At the New Jersey/New York State boundary | None | +426
Dry Brook | At the upstream face of the Route 206 culvert | None | +509 | Borough of Branchville, Township of Frankford.
| Approximately 675 feet upstream of Wantage Avenue (County Road 519) | None | +575
Lake Hopatcong | Entire shoreline within the Borough of Hopatcong | None | +925 | Borough of Hopatcong.
Lake Mohawk | Entire shoreline within the Township of Byram | None | +730 | Township of Byram.
Lubbers Run | At the downstream corporate limit of the Borough of Hopatcong | None | +733 | Borough of Hopatcong.
| Approximately 3,540 feet upstream of Sussex County Road 605 | None | +809
Lubbers Run | Approximately 2,620 feet downstream of Mansfield Drive | None | +710 | Township of Byram.
| Approximately 140 feet upstream of Mansfield Drive | None | +713
Musconetcong River | At the downstream corporate limit of the Borough of Hopatcong | None | +870 | Borough of Hopatcong.
| Approximately 2,530 feet upstream of the downstream corporate limit of the Borough of Hopatcong | None | +876
Paulins Kill | At the Township of Hampton boundary | None | +502 | Township of Frankford.
| Approximately 200 feet downstream of Decker Road | None | +502
Pequest River | Approximately 380 feet downstream of County Road 618 (at Township of Andover boundary) | None | +583 | Township of Fredon.
| Approximately 400 feet upstream of County Road 618 (at Township of Andover boundary) | None | +584
Unnamed Tributary to Paulins Kill | Approximately 300 feet downstream of the U.S. Route 206 Bridge | None | +502 | Township of Hampton.
| Approximately 20 feet downstream of the U.S. Route 206 Bridge | None | +502
Wallkill River | Approximately 315 feet upstream of County Route 565 (at Township of Vernon boundary) | None | +393 | Township of Hardyston.
| Approximately 320 feet downstream of Scott Road (at Borough of Franklin boundary) | None | +403
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Borough of Branchville
Maps are available for inspection at 5 Main Street, Branchville Municipal Building, Branchville, NJ 07826.
Borough of Hopatcong
Maps are available for inspection at 111 River Styx Road, Hopatcong Borough Municipal Building, Hopatcong, NJ 07843.
Township of Byram
Maps are available for inspection at 10 Mansfield Drive, Byram Township Municipal Building, Stanhope, NJ 07874.
Township of Frankford
Maps are available for inspection at 151 State Highway 206, Frankford Township Municipal Building, Augusta, NJ 07822.
Township of Fredon
Maps are available for inspection at 443 Route 94, Fredon Township Municipal Building, Newton, NJ 07860.
Township of Hampton
Maps are available for inspection at 1 Rumsey Way, Hampton Township Municipal Building, Newton, NJ 07860.
Township of Hardyston
Maps are available for inspection at 149 Wheatsworth Road, Suite A, Hardyston Township Municipal Building, Hardyston, NJ 07419.
Township of Montague
Maps are available for inspection at 277 Clove Road, Montague Township Municipal Building, Montague, NJ 07827.
Township of Sandyston
Maps are available for inspection at 133 County Road 645, Sandyston Township Municipal Building, Sandyston, NJ 07826.
Clearfield County, Pennsylvania (All Jurisdictions)
Clear Run | Approximately 580 feet upstream of U.S. Route 219 | None | +1,405 | City of Dubois.
| Approximately 220 feet upstream of Juniata Street | None | +1,420
Laurel Run No. 1 | Approximately 2,690 feet downstream of the confluence with Laurel Run Tributary A | None | +1,467 | Township of Boggs.
| Approximately 2,625 feet downstream of the confluence with Laurel Run Tributary A | None | +1,467
Pentz Run | Approximately 435 feet downstream of U.S. Route 219 | None | +1,409 | Township of Sandy.
| Approximately 360 feet downstream of U.S. Route 219 | None | +1,410
Pentz Run Tributary | Approximately 195 feet upstream of the confluence with Pentz Run | None | +1,410 | Township of Sandy.
| Approximately 125 feet downstream of Forest Avenue | None | +1,412
West Branch Susquehanna River | Approximately 4,485 feet downstream of U.S. Route 219 | None | +1,323 | Township of Burnside.
| Approximately 2,275 feet downstream of U.S. Route 219 | None | +1,325
| Approximately 1,910 feet downstream of the confluence with Rock Run No. 2 | None | +1,332
| Approximately 1,475 feet downstream of the confluence with Rock Run No. 2 | None | +1,333
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Dubois
Maps are available for inspection at 16 West Scribner Avenue, DuBois, PA 15801.
Township of Boggs
Maps are available for inspection at 150 Blue Ball Road, West Decatur, PA 16878.
Township of Burnside
Maps are available for inspection at 2447 Ridge Road, Westover, PA 16692.
Township of Sandy
Maps are available for inspection at 1094 Chestnut Avenue, DuBois, PA 15801.
Dauphin County, Pennsylvania (All Jurisdictions)
Beaver Creek (Upper Reach) | Approximately 1,540 feet below Devonshire Heights Road | None | +381 | Township of Lower Paxton.
| Approximately 160 feet above the confluence with Beaver Creek Tributary A | None | +432
Paxton Creek | Approximately 2,285 feet above the confluence with Paxton Tributary | None | +321 | City of Harrisburg.
| Approximately 4,000 feet above confluence with the centerline of the Susquehanna River | None | +325
Susquehanna River | At Whitehouse Lane (295 feet northeast of Cherry Avenue) | None | +304 | Borough of Steelton.
| Approximately 840 feet northwest of the intersection of Franklin Street and the railroad | None | +313
Swatara Creek | Approximately 2,100 feet downstream of the confluence with Bow Creek | None | +348 | Township of East Hanover.
| At the Lebanon County boundary | None | +359
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Borough of Steelton
Maps are available for inspection at 123 North Front Street, Steelton, PA 17113.
City of Harrisburg
Maps are available for inspection at the City Government Center, 10 North 2nd Street, Harrisburg, PA 17101.
Township of East Hanover
Maps are available for inspection at 8848 Jonestown Road, Grantville, PA 17028.
Township of Lower Paxton
Maps are available for inspection at 425 Prince Street, Harrisburg, PA 17109.
Fort Bend County, Texas, and Incorporated Areas
Brazos River | At the confluence with Cow Creek | +53 | +51 | City of Missouri City, City of Richmond, City of Rosenberg, City of Sugar Land, Fort Bend County L.I.D. #2, Fort Bend County L.I.D. #7, Pecan Grove M.U.D., Unincorporated Areas of Fort Bend County, Village of Simonton, Weston Lakes.
| At the Waller/Austin county boundary | +116 | +117
Cane Island Branch | Just upstream of the confluence with Willow Fork Buffalo Bayou | +133 | +132 | City of Katy.
| Just upstream of I-10 | +135 | +133
Clear Creek | Just downstream of FM 2234 | +62 | +60 | City of Houston, City of Pearland, Unincorporated Areas of Fort Bend County.
| Just downstream of Rouen Road | +70 | +68
Keegans Bayou | Approximately 1,500 feet downstream of Hodges Bend Drive | None | +88 | West Keegans Bayou Improvement District.
| Approximately 988 feet upstream of Hodges Bend Drive | None | +88
Lower Oyster Creek | At the confluence with Flat Bank Creek | +60 | +61 | City of Arcola, City of Missouri City, Unincorporated Areas of Fort Bend County.
| Approximately 1,300 feet upstream of McKeever Road | None | +64
Old Oyster Creek (Backwater effects from Lower Oyster Creek) | Approximately 2,000 feet downstream of Ellison Road | None | +59 | City of Missouri City, Unincorporated Areas of Fort Bend County.
| Just downstream of Watts Plantation Road | None | +60
Oyster Creek | At the confluence with Flat Bottom Creek | +60 | +61 | City of Missouri City, City of Sugar Land, First Colony L.I.D., Fort Bend County L.I.D. #2, Fort Bend County M.U.D. #42, Pecan Grove M.U.D., Unincorporated Areas of Fort Bend County.
| At the confluence with Jones Creek | +81 | +85
Willow Fork Buffalo Bayou | At the Harris County boundary | +98 | +97 | City of Houston, City of Katy, Unincorporated Areas of Fort Bend County, Willow Fork Drainage District.
| At the Waller County boundary | +146 | +147
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Arcola
Maps are available for inspection at 13222 State Highway 6, Arcola, TX 77583.
City of Houston
Maps are available for inspection at 3300 Main Street, Houston, TX 77002.
City of Katy
Maps are available for inspection at 910 Avenue C, Katy, TX 77492.
City of Missouri City
Maps are available for inspection at 1522 Texas Parkway, Missouri City, TX 77459.
City of Pearland
Maps are available for inspection at 3519 Liberty Drive, Pearland, TX 77581.
City of Richmond
Maps are available for inspection at 402 Morton Street, Richmond, TX 77469.
City of Rosenberg
Maps are available for inspection at 2110 4th Street, Rosenberg, TX 77471.
City of Sugar Land
Maps are available for inspection at 10405 Corporate Drive, Sugar Land, TX 77478.
First Colony L.I.D.
Maps are available for inspection at 2077 South Gessner Road, Suite 225, Houston, TX 77063.
Fort Bend County L.I.D. #2
Maps are available for inspection at 2929 Briarpark Drive, Suite 600, Houston, TX 77042.
Fort Bend County L.I.D. #7
Maps are available for inspection at 2929 Briarpark Drive, Suite 600, Houston, TX 77042.
Fort Bend County M.U.D. #42
Maps are available for inspection at 6335 Gulfton Street, Suite 200, Houston, TX 77081.
Pecan Grove M.U.D.
Maps are available for inspection at 6335 Gulfton Street, Suite 200, Houston, TX 77081.
Unincorporated Areas of Fort Bend County
Maps are available for inspection at 1124 Blume Road, Rosenburg, TX 77471.
Village of Simonton
Maps are available for inspection at 1104 Blume Road, Rosenburg, TX 77471.
West Keegans Bayou Improvement District
Maps are available for inspection at 5757 Woodway Drive, Houston, TX 77057.
Weston Lakes
Maps are available for inspection at 32611 FM 1093, Fulshear, TX 77441.
Willow Fork Drainage District
Maps are available for inspection at 5757 Woodway Drive, Houston, TX 77057.
Iron County, Utah, and Incorporated Areas
Coal Creek | At the divergence from North Airport Canal | +5,618 | +5,619 | City of Cedar City.
| Just downstream of I-15 | None | +5,676
Cross Hollow | Approximately 250 feet downstream of Cross Hollow Road | None | +5,750 | City of Cedar City.
| Just upstream of I-15 | None | +6,000
Greens Lake | Just upstream of I-15 | None | +6,000 | City of Cedar City, Unincorporated Areas of Iron County.
| Approximately 0.66 mile upstream of Fir Street | None | +6,046
Parowan Creek | Just upstream of I-15 | None | +5,806 | City of Parowan, Unincorporated Areas of Iron County.
| Approximately 1.41 mile upstream of Old Highway 91 | None | +6,237
Quichapa Channel | Just upstream of 6300 West Street | None | +5,476 | City of Cedar City, Unincorporated Areas of Iron County.
| Just downstream of I-15 | +5,683 | +5,682
Red Creek | Approximately 0.36 mile downstream of Center Street | None | +5,900 | Unincorporated Areas of Iron County.
| Approximately 40 feet upstream of Red Creek Road | None | +6,061
Shurtz Creek | Just downstream of 5700 West Street | None | +5,481 | City of Cedar City, Unincorporated Areas of Iron County.
| Approximately 0.26 mile upstream of I-15 | None | +5,731
Squaw Creek | At the confluence with Coal Creek | None | +5,876 | City of Cedar City.
| Approximately 0.71 mile upstream of 200 South Street | None | +6,085
Water Canyon | Approximately 60 feet downstream of 100 West Street | None | +5,850 | Unincorporated Areas of Iron County.
| Approximately 0.34 mile upstream of Main Street | None | +5,918
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Cedar City
Maps are available for inspection at 10 North Main Street, Cedar City, UT 84702.
City of Parowan
Maps are available for inspection at 5 South Main, Parowan, UT 84761.
Unincorporated Areas of Iron County
Maps are available for inspection at 82 North 100 East, Suite 104, Cedar City, UT 84720.
Pierce County, Wisconsin, and Incorporated Areas
Bay City Creek | Approximately 900 feet upstream of State Highway 35 | None | +690 | Unincorporated Areas of Pierce County.
| Approximately 1,000 feet upstream of State Highway 35 | None | +691
Eau Galle River | Approximately 0.8 mile upstream of Winter Avenue (State Highway 72) | None | +846 | Unincorporated Areas of Pierce County.
| Approximately 0.9 mile upstream of Winter Avenue (State Highway 72) | None | +847
Kinnickinnic River | Approximately 1,600 feet downstream of the Lake Louise Dam | None | +810 | Unincorporated Areas of Pierce County.
| Approximately 1,000 feet downstream of the Lake Louise Dam | None | +812
Mississippi River | At the Pepin County boundary | +682 | +681 | City of Prescott, Unincorporated Areas of Pierce County, Village of Bay City, Village of Maiden Rock.
| Approximately 1,700 feet south of the intersection of State Highway 35 and Walter Street | +691 | +690
Rush Coulee | Approximately 250 feet downstream of Maple Avenue (County Highway S) | None | +832 | Unincorporated Areas of Pierce County.
| At Maple Avenue (County Highway S) | None | +833
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Prescott
Maps are available for inspection at City Hall, 800 Borner Street North, Prescott, WI 54021.
Unincorporated Areas of Pierce County
Maps are available for inspection at the Pierce County Courthouse, 414 West Main Street, Ellsworth, WI 54011.
Village of Bay City
Maps are available for inspection at the Village Hall, West 6371 Main Street, Bay City, WI 54723.
Village of Maiden Rock
Maps are available for inspection at the Village Hall, West 3535 State Road 35, Maiden Rock, WI 54750.

(Catalog of Federal Domestic Assistance No. 97.022, “Flood Insurance.”)

Dated: May 11, 2010.
Sandra K. Knight,
Deputy Federal Insurance and Mitigation Administrator, Mitigation, Department of Homeland Security, Federal Emergency Management Agency.

[FR Doc. 2010-12488 Filed 5-24-10; 8:45 am]

BILLING CODE 9110-12-P